DEPARTMENT OF ENERGY

Federal Energy Regulatory Commission

[Project No. 8606-010]

Erie Boulevard Hydropower, L.P.; Notice of Reasonable Period of Time for Water Quality Certification Application

On February 12, 2025, the New York State Department of Environmental Conservation (New York DEC) submitted to the Federal Energy Regulatory Commission (Commission) notice that it received a request for a Clean Water Act section 401(a)(1) water quality certification as defined in 40 CFR 121.5, from Erie Boulevard Hydropower, L.P., in conjunction with the above captioned project on February 10, 2025. Pursuant to Commissions regulations,¹ we hereby notify the New York DEC of the following:

¹ 18 CFR 4.201(e).

Date of Receipt of the Certification Request: February 10, 2025.

Reasonable Period of Time to Act on the Certification Request: February 10, 2026.

If the New York DEC fails or refuses to act on the water quality certification request on or before the above date, then the certifying authority is deemed waived pursuant to section 401(a)(1) of the Clean Water Act, 33 U.S.C. 1341(a)(1).

Dated: August 11, 2025.
Debbie-Anne A. Reese,
Secretary.

[FR Doc. 2025-15449 Filed 8-13-25; 8:45 am]

BILLING CODE 6717-01-P